SURFACE TRANSPORTATION BOARD

[Docket No. FD 36362]

New Orleans Public Belt Railroad Corporation—Lease and Operation Exemption—Line of Illinois Central Railroad Company

New Orleans Public Belt Railroad Corporation (NOPB Corp.), a Class III railroad,¹ has filed a verified notice of exemption under 49 CFR 1150.41 to lease from Illinois Central Railroad Company (IC) and operate a line of railroad extending (1) between approximately IC milepost 906.1 at Central Avenue near East Bridge Junction in Shrewsbury, La., and the end of the track at approximately IC milepost 908.8 in Jefferson Parish, La., and (2) between approximately IC milepost 921.8 at Iris Avenue (approximately IC milepost 908.5 on the first segment) and approximately IC milepost 921.14 at Dakin Street near Lampert Junction in Jefferson Parish (the Line), a total distance of approximately 3.36 miles. Between East Bridge Junction and Iris Avenue the Line consists of parallel tracks known as the Main Track and the A2 Track.

¹ The verified notice states that NOPB Corp., a wholly owned subsidiary of the Board of Commissioners of the Port of New Orleans, is a switching and terminal railroad that provides services to local shippers and six Class I railroads in the New Orleans area. NOPB Corp. began operations in 2018 upon acquiring the railroad operating assets of the Public Belt Railroad Commission of the City of New Orleans. See New Orleans Pub. Belt R.R.—Acquis. & Operation Exemption—Pub. Belt R.R. Comm'n, FD 36149 (STB served Dec. 27, 2017).

The verified notice states that NOPB Corp. and IC will shortly execute a Track Lease Agreement providing for NOPB Corp.'s lease and operation of the Line and that NOPB Corp.'s operations will include providing local service and conducting maintenance on the Line.² According to NOPB Corp., existing trackage rights operations of Union Pacific Railroad Company and The Kansas City Southern Railway Company and operations of the National Railroad Passenger Corporation (Amtrak) on the Line will not be affected by the proposed transaction. IC will continue to perform dispatching on the Line and will retain rights to operate its own trains.

² NOPB Corp. currently conducts overhead operations on a portion of the Line pursuant to trackage rights previously granted by IC. See New Orleans Pub. Belt R.R.—Trackage Rights Exemption—Ill. Cent. R.R., FD 33182 (STB served Oct. 30, 1996).

NOPB Corp. certifies that the proposed transaction does not involve any provision or agreement that would limit future interchange with a third-party connecting carrier.

NOPB Corp. further certifies that its projected annual revenues as a result of the proposed transaction will not result in the creation of a Class II or Class I rail carrier. Pursuant to 49 CFR 1150.42(e), which applies “[i]f the projected annual revenue of the rail lines to be acquired or operated, together with the acquiring carrier's projected annual revenue, exceeds $5 million,” on October 31, 2019, NOPB Corp. posted the 60-day notice of the transaction required by § 1150.42(e) at the workplaces of current IC employees on the Line, served the notice on the national offices of the labor unions for those employees, and certified both actions to the Board.

The earliest this transaction may be consummated is December 30, 2019 (60 days after the certification under 49 CFR 1150.42(e) was filed).

If the verified notice contains false or misleading information, the exemption is void ab initio. Petitions to revoke the exemption under 49 U.S.C. 10502(d) may be filed at any time. The filing of a petition to revoke will not automatically stay the effectiveness of the exemption. Petitions for stay must be filed no later than December 23, 2019 (at least seven days before the exemption becomes effective).

All pleadings, referring to Docket No. FD 36362, must be filed with the Surface Transportation Board either via e-filing or in writing addressed to 395 E Street SW, Washington, DC 20423-0001. In addition, a copy of each pleading must be served on NOPB Corp.'s representative, Thomas J. Litwiler, Fletcher & Sippel LLC, 29 North Wacker Drive, Suite 800, Chicago, IL 60606.

According to NOPB Corp., this action is categorically excluded from environmental review under 49 CFR 1105.7(e) and from historic preservation reporting requirements under 49 CFR 1105.8(b).

Board decisions and notices are available at www.stb.gov.

Decided: December 9, 2019.
By the Board, Allison C. Davis, Director, Office of Proceedings.
Brendetta Jones,
Clearance Clerk.

[FR Doc. 2019-26917 Filed 12-12-19; 8:45 am]

BILLING CODE 4915-01-P